DEPARTMENT OF ENERGY

Federal Energy Regulatory Commission

[Docket No. CP99-599-002]

Paiute Pipeline Company; Notice of Application

November 24, 2000.

Take notice that on October 31, 2000, Paiute Pipeline Company (Paiute) tendered for filing as part of its FERC Gas Tariff, Second Revised Volume No. 1-A, the following tariff sheets, to become effective November 1, 2000:

Ninth Revised Sheet No. 10

Fourth Revised Sheet No. 21

Second Revised Sheet No. 22

Ninth Revised Sheet No. 161

Paiute states that the purpose of this filing is to comply with the Commission's order issued June 30, 2000 in Docket Nos. CP99-599-000, et al.

Paiute states that the Commission's order, among other things, authorized Paiute to construct and operate certain pipeline loop and replacement pipeline facilities, referred to as the Carson Lateral Project. Paiute indicates that the Commission's order authorized Paiute to recover a portion of the cost of service associated with the construction project by means of an incremental facilities surcharge to be assessed to Southwest Gas Corporation-Northern Nevada. By its filing, Paiute proposes to establish the initial incremental facilities surcharge. Paiute requests that its proposed incremental rate and tariff sheets be permitted to become effective on November 1, 2000, following the inservice date of the completed construction project.

Any person desiring to be heard or to make any protest with reference to said application should on or before Dec. 15, 2000, file with the Federal Energy Regulatory Commission, 888 First Street, N.E., Washington, D.C. 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Linwood A. Watson, Jr.,
Acting Secretary.

[FR Doc. 00-30486 Filed 11-29-00; 8:45 am]

BILLING CODE 6717-01-M